DEPARTMENT OF ENERGY

Federal Energy Regulatory Commission

[Docket No. RP00-431-000]

Sea Robin Pipeline Company; Notice of Compliance Filing

August 10, 2000.

Take notice that on August 4, 2000, Sea Robin Pipeline Company (Sea Robin) tendered for filing as part of its FERC Gas Tariff, First Revised Volume No. 1, revised tariff sheets to be effective March 27, 2000 and September 4, 2000 as listed on Appendix A attached to the filing.

Sea Robin states that the purpose of this filing is to comply with the Commission's Regulation of Short-Term Natural Gas Transportation Service, and Regulation of Interstate Natural Gas Transportation Services in Docket Nos. RM98-10-000 and RM98-12-000 issued on February 9, 2000, 90 FERC ¶ 61,109 (Order No. 637) as clarified in Docket Nos. RM98-10-001, et al. issued on May 19, 2000, 91 FERC ¶ 61,169 (Order No. 637-A) and Docket Nos. RM98-10-005, et al. issued on July 26, 2000, 92 FERC ¶ 61,062 (Order No. 637-B). Specifically, the proposed changes revise the applicable sections of the General Terms and Conditions of Sea Robin's tariff to remove the price cap for short-term capacity releases until September 30, 2002 and to modify the applicability of the right of first refusal as directed by Order Nos. 637, 637-A and 637-B.

Sea Robin states that a copy of this filing is available for public inspection during regular business hours at Sea Robin's office at 5444 Westheimer Road, Houston, Texas 77056-5306. In addition, copies of this filing are being served on all affected customers and applicable state regulatory agencies.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestsants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-20754 Filed 8-15-00; 8:45 am]

BILLING CODE 6717-01-M